DEPARTMENT OF AGRICULTURE

Agricultural Marketing Service

[Doc. No. LS-02-17]

Extension and Revision of a Currently Approved Information Collection

AGENCY: Agricultural Marketing Service, USDA.

ACTION: Notice and request for comment.

SUMMARY: In accordance with the Paperwork Reduction Act of 1995 (44 U.S.C. chapter 35), this notice announces the Agricultural Marketing Service's (AMS) intention to request from the Office of Management and Budget approval for an extension of and revision to a currently approved information collection “Customer Service Survey (Meat Grading and Certification Services).”

DATES: Comments must be received on or before February 24, 2003.

ADDRESSES: Send a copy of your comments to Larry R. Meadows, Chief, Meat Grading and Certification Branch, Livestock and Seed Program, AMS, USDA; STOP 0248, Room 2628-S, 1400 Independence Avenue, SW., Washington, DC 20250-0248. Comments will be available for public inspection at the above address during regular business hours. Comments may also be submitted by e-mail to Larry.Meadows@usda.gov or by facsimile at 202-690-4119. All comments should reference the docket number (LS-02-17), the date, and the page number of this issue of the Federal Register. All responses to this notice will be summarized and included in the request for OMB approval.

SUPPLEMENTARY INFORMATION: Title: Customer Service Survey (Meat Grading and Certification Services).

OMB Number: 0581-0193.

Expiration Date of Approval: June 30, 2003.

Type of Request: Extension and revision of a currently approved information collection.

Abstract: The customer service survey is being conducted to evaluate how well we are meeting our customer's expectations. The information obtained will be used to manage the program in providing cost effective, quality services expected by our customers.

Estimate of Burden: Public reporting burden for this collection of information is estimated to average 0.0830 hours per response.

Respondents: Producers and owners of meat establishments.

Estimated Number of Respondents: 450 respondents.

Estimated Number of Responses per Respondent: 1.

Estimated Total Annual Burden on Respondents: 37.35 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: Larry R. Meadows, Chief, Meat Grading and Certification Branch, telephone 202-720-1246, facsimile 202-690-4119, or e-mail at Larry.Meadows@usda.gov.

Dated: December 16, 2002.
A.J. Yates,
Administrator, Agricultural Marketing Service.

[FR Doc. 02-32307 Filed 12-23-02; 8:45 am]

BILLING CODE 3410-02-P